FEDERAL COMMUNICATIONS COMMISSION

47 CFR Parts 15 and 73

[GN Docket No. 12-268; Report No. 3028]

Petitions for Reconsideration of Action in Rulemaking Proceeding

AGENCY: Federal Communications Commission.

ACTION: Petition for reconsideration.

SUMMARY: Petitions for Reconsideration (Petitions) have been filed in the Commission's Rulemaking Proceeding by Ari Q. Fitzgerald, on behalf of GE Healthcare; Ronald J. Bruno on behalf of The VideoHouse, Inc.; Benjamin Perez on behalf of Abacus Television; Lawrence Rogow on behalf of WMTM, LLC; and Larry E. Morton on behalf of KMYA, LLC.

DATES: Oppositions to the Petitions must be filed on or before November 9, 2015. Replies to an opposition must be filed on or before November 17, 2015.

ADDRESSES: Federal Communications Commission, 445 12th Street SW., Washington, DC 20554.

FOR FURTHER INFORMATION CONTACT: Joyce Bernstein, Media Bureau, (202) 418-1647, email: joyce.bernstein@fcc.gov.

SUPPLEMENTARY INFORMATION: This is a summary of Commission's document, Report No. 3028, released September 21, 2015. The full text of the Petitions is available for viewing and copying in Room CY-B402, 445 12th Street SW., Washington, DC 20554 or may be accessed online via the Commission's Electronic Comment Filing System at http://apps.fcc.gov/ecfs/. The Commission will not send a copy of this Notice pursuant to the Congressional Review Act, 5 U.S.C. 801(a)(1)(A), because this notice does not have an impact on any rules of particular applicability.

Subject: Expanding the Economic and Innovation Opportunities of Spectrum Through Incentive Auctions, Second Order on Reconsideration, published at 80 FR 46824, August 6, 2015, in GN Docket No. 12-268, and published pursuant to 47 CFR 1.429(e). See also 47 CFR 1.4(b)(1).

Number of Petitions Filed: 2.

Federal Communications Commission.
Marlene H. Dortch,
Secretary.

[FR Doc. 2015-26872 Filed 10-22-15; 8:45 am]

BILLING CODE 6712-01-P